DEPARTMENT OF TRANSPORTATION

Pipeline and Hazardous Materials Safety Administration

[Docket No. PHMSA-2011-0241, (Notice No. 11-10)]

Safety Advisory: Unauthorized Marking of Compressed Gas Cylinders

AGENCY: Pipeline and Hazardous Materials Safety Administration (PHMSA), DOT.

ACTION: Safety Advisory Notice.

SUMMARY: An undetermined number of high pressure DOT specification cylinders were improperly marked from approximately August 2007 to August 2011 and marked with a RIN of B377.

Prior to filling these cylinders, a person must verify that the cylinder has been properly requalified by an authorized requalification company and properly marked.

FOR FURTHER INFORMATION CONTACT: Morgan Welding and Supply, Mr. Daniel Horosko, Owner or Mr. Matthew Stepps, Manager, 488 Finley Road, Albion, MI, Telephone (517) 629-6566.

SUPPLEMENTARY INFORMATION: This notice advises the public that PHMSA has recently confirmed the marking and sale of certain high pressure DOT specification cylinders that were marked with a requalification identification number (RIN) without performing a visual inspection and hydrostatic test. The company that marked the cylinders does not have authority from the Associate Administrator to requalify high pressure DOT cylinders. The evidence suggests that if a cylinder purchased from Morgan Welding and Supply, Albion, Michigan is marked with a “B377” in which the individual letter and numbers appear to be stamped individually, the mark may have been improperly placed on the cylinder. The cylinder did not undergo the complete series of safety tests and inspections required by the Hazardous Materials Regulations (HMR) and may not possess the structural integrity to safely contain its contents under pressure during normal transportation and use. Extensive property damage, serious personal injury, or death could result from a rupture of the cylinder. Individuals who identify a cylinder marked with the RIN “B377” stamped with individual letter/numbers that are not in a square pattern, are advised to remove these cylinders from service and contact Morgan Welding and Supply, Albion, MI for further instructions.

However, the RIN “B377” is currently authorized to Midwest Cylinder Inc., located in Cleaves, OH. Cylinders purchased from Midwest Cylinder Inc. will have the proper RIN “B377” and have been properly requalified. Cylinders from Midwest Cylinder Inc. can also be identified by blue paint highlighting the requalification markings. The RIN, “B377” has been stamped on the cylinder with a square pattern stamp so the marks will appear uniform and straight.

Issued in Washington, DC, on November 4, 2011.
Magdy El-Sibaie,
Associate Administrator for Hazardous Materials Safety.

[FR Doc. 2011-29495 Filed 11-15-11; 8:45 am]

BILLING CODE 4910-60-P